SECURITIES AND EXCHANGE COMMISSION

[Release No. 35-27178]

Filings Under the Public Utility Holding Company Act of 1935, as amended (“Act”)

May 19, 2000.

Notice is hereby given that the following filing(s) has/have been made with the Commission pursuant to provisions of the Act and rules promulgated under the Act. All interested persons are referred to the application(s) and/or declarations(s) for complete statements of the proposed transaction(s) summarized below. The application(s) and/or declaration(s) and any amendment(s) is/are available for public inspection through the Commission's Branch of Public Reference.

Interested persons wishing to comment or request a hearing on the application(s) and/or declaration(s) should submit their views in writing by June 13, 2000, to the Secretary, Securities and Exchange Commission, Washington, D.C. 20549-0609, and serve a copy on the relevant applicant and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After June 13, 2000 the application(s) and/or declaration(s) as filed or as amended, may be granted and/or permitted to become effective.

Southern Co. et al. (70-8733)

The Southern Company, a registered public utility holding company, located at 270 Peachtree Street, N.W., Atlanta, Georgia, Southern Energy, Inc. (“SEI”), a nonutility subsidiary company, and Southern Energy Resources, Inc., a nonutility subsidiary company of SEI, both located at 900 Ashwood Parkway, Suite 500, Atlanta, Georgia 30338, have filed a post-effective amendment under section 12(c) of the Act and rules 46 and 54 under the Act.

By supplemental orders dated July 17, 1996 and July 2, 1997 (HCAR Nos. 26543 and 26738, respectively), the Commission authorized SEI and its current and future subsidiaries to pay dividends to their parent companies with respect to the securities of such companies through June 30, 2000, out of capital or unearned surplus (including revaluation reserve). In both orders the Commission reserved jurisdiction over payment of dividends out of capital or unearned surplus by any current or future subsidiary company of SEI that derived any material part of its revenues from the sale of goods, services, electricity or natural gas to any of Southern's five domestic electric utility subsidiaries or to Southern Company Services, Inc.

SEI and its current and future subsidiaries now propose to extend the time during which they may declare and pay dividends to their parent companies with respect to the securities of such companies, from time to time through June 30, 2002, out of capital or unearned surplus. The Commission will continue to reserve jurisdiction over the payment of dividends out of capital or unearned surplus by any current or future subsidary company of SEI that derived any material part of its revenues from the sale of goods, services, electricity or natural gas to any of Southern's five domestic electric utility subsidiaries or to Southern Company Services, Inc. The application cites the need to efficiently manage the unrestricted cash of SEI and its intermediate and special purpose subsidiaries as the main reason for extending the time to declare and issue dividends.

For the Commission by the Division of Investment Management, under delegated authority.
Jonathan G. Katz,
Secretary.

[FR Doc. 00-13233 Filed 5-25-00; 8:45 am]

BILLING CODE 8010-01-M